DEPARTMENT OF THE INTERIOR

U.S. Fish and Wildlife Service

[FWS-R7-R-2008-N0070; 70133-1265-0000-S3]

Kenai National Wildlife Refuge, Soldotna, AK

AGENCY: U.S. Fish and Wildlife Service, Interior.

ACTION: Notice of Availability of the Draft Revised Comprehensive Conservation Plan and Environmental Impact Statement for the Kenai National Wildlife Refuge; request for comments.

SUMMARY: We, the U.S. Fish and Wildlife Service (Service, we), announce that the Draft Revised Comprehensive Conservation Plan (Draft Plan) and Environmental Impact Statement (EIS) for the Kenai National Wildlife Refuge is available for public comment. The Draft Plan/EIS was prepared pursuant to the Alaska National Interest Lands Conservation Act of 1980 (ANILCA), the National Wildlife Refuge System Administration Act of 1966 (Refuge Administration Act) as amended by the National Wildlife Refuge System Improvement Act of 1997 (Refuge Improvement Act), and the National Environmental Policy Act of 1969 (NEPA). It describes five alternatives for managing the Kenai Refuge for the next 15 years, including continuing current management. We will use special mailings to inform the public of opportunities to provide input on the Draft Plan/EIS and will hold public meetings in Anchorage and various communities on the Kenai Peninsula to obtain public comments.

DATES: Comments on the Draft Plan/EIS must be received on or before September 1, 2008.

ADDRESSES: To provide written comments or to request a paper copy or a compact disk of the Draft Plan/EIS, contact Rob Campellone, Planning Team Leader, U.S. Fish and Wildlife Service, 1011 East Tudor Rd., MS-231, Anchorage, Alaska 99503; telephone: (907) 786-3982; fax: (907) 786-3965; e-mail: fw7_kenai_planning@fws.gov. You may also view or download a copy of the Draft Plan/EIS at the following Web site: http://alaska.fws.gov/nwr/planning/kenpol.htm.

Copies of the Draft Plan/EIS may be viewed at the Kenai Refuge Office in Soldotna, Alaska, and the U.S. Fish and Wildlife Service Regional Office in Anchorage, Alaska.

FOR FURTHER INFORMATION CONTACT: Rob Campellone at the address or phone number provided above.

SUPPLEMENTARY INFORMATION: The ANILCA (16 U.S.C. 410hh et seq., 43 U.S.C. 1602 et seq.) requires development of a Comprehensive Conservation Plan for all national wildlife refuges in Alaska. The Draft Plan/EIS for the Kenai Refuge was developed consistent with Section 304(g) of ANILCA and the Refuge Administration Act as amended by the Refuge Improvement Act (16 U.S.C. 668dd et seq.). The purpose of developing a Comprehensive Conservation Plan is to provide refuge managers with a 15-year management strategy for achieving refuge purposes and contributing toward the mission of the National Wildlife Refuge System, consistent with sound principles of fish, wildlife, and habitat management and conservation; legal mandates; and Service policies. Comprehensive Conservation Plans define long-term goals and objectives toward which refuge management activities are directed, and identify which uses may be compatible with the purposes of a refuge. Comprehensive Conservation Plans are reviewed and updated every 15 years in accordance with direction in Section 304(g) of ANILCA, the Refuge Improvement Act, and NEPA (42 U.S.C. 4321 et seq.).

Background: In 1941, President Franklin D. Roosevelt signed Executive Order 8979 creating the 1,730,000-acre Kenai National Moose Range. In 1980, ANILCA changed the name of the Range to the Kenai National Wildlife Refuge and substantially increased the size of the Refuge. As of 2007, the Kenai Refuge encompasses approximately 1,988,000 acres. Section 303(4)(B) of ANILCA states that the purposes for which Kenai Refuge was established include: (i) To conserve fish and wildlife populations and habitats in their natural diversity; (ii) to fulfill international treaty obligations of the United States with respect to fish and wildlife and their habitats; (iii) to ensure water quality and necessary water quantity within the refuge; (iv) to provide opportunities for scientific research, interpretation, environmental education, and land management training; and (v) to provide opportunities for fish and wildlife-oriented recreation. A Comprehensive Conservation Plan and EIS were completed for the Kenai Refuge in 1985 following direction in Section 304(g) of ANILCA.

The ANILCA requires the Service to designate areas according to their respective resources and values and to specify programs and uses within the areas designated. To meet these requirements, the Alaska Region established management categories. A management category is a set of refuge management directions applied to an area to accomplish refuge purposes and goals. Appropriate public uses, commercial uses, facilities, and human activities are identified for each management category. Five management categories currently apply to the Kenai Refuge including (1) Intensive, (2) Moderate, (3) Traditional, (4) Minimal, and (5) Wilderness.

The 1997 Refuge Improvement Act includes additional direction for conservation planning throughout the National Wildlife Refuge System. This direction has been incorporated into national planning policy for the National Wildlife Refuge System, including refuges in Alaska. The Draft Plan/EIS for the Kenai Refuge meets the requirements of both ANILCA and the Refuge Administration Act as amended by the Refuge Improvement Act.

An Overview of Management Alternatives: The Draft Plan/EIS describes and evaluates five alternatives (A-E) for managing the Kenai Refuge for the next 15 years. Alternatives are different sets of objectives and strategies for achieving refuge purposes and goals. Alternatives A through E are each consistent with the purposes of the Kenai Refuge as mandated by ANILCA.

Alternative A (the No-Action Alternative) is required under NEPA and describes continuation of current management activities. Alternative A serves as a baseline against which to compare the other four alternatives, including Alternative E—the Service's Preferred Alternative. Under Alternative A, management of the Kenai Refuge would continue to follow direction described in the 1985 Comprehensive Conservation Plan/EIS and Record of Decision and subsequent step-down management plans. Under Alternative A, the Kenai Refuge would continue to be managed under five management categories.

Alternatives B through E would generally continue to follow management direction as described in the 1985 Comprehensive Conservation Plan/EIS and Record of Decision and subsequent step-down management plans, however some specific direction occurring under current management (Alternative A) would be altered or no longer pursued under Alternatives B through E. For example, under Alternatives B through E, four management categories, not five, would be applied to the Kenai Refuge, eliminating the Traditional management category. Alternative B would convert Kenai Refuge lands that are currently managed as Traditional to the Moderate or the Minimal management categories, and Alternatives C through E would convert Refuge lands that are currently managed as Traditional to the Minimal management category.

The Alternatives by Specific Issues: Five central planning issues were raised during scoping and public involvement. The Draft Plan/EIS for the Kenai Refuge describes and evaluates, in detail, specific management actions under Alternatives A through E and how each alternative addresses the five central planning issues. In this notice, we highlight key changes in management of the Kenai Refuge under Alternatives A through E for each planning issue:

Issue 1: Large-Scale Habitat Change and the Use of Fire

Under Alternatives A through C, prescribed fire use would be allowed on 31 percent of the Refuge, though such use would be limited under Alternative A on approximately 10 percent of the Refuge identified as Minimal Management. Alternatives D and E (Alternative E is the Preferred Alternative) would allow prescribed fire use on 97.5 percent of the Refuge.

Under Alternative A, wildland fire use would be allowed on 95 percent of the Refuge, and Alternative B would allow such use on 84.5 percent of the Refuge. Wildland fire use is the management of naturally ignited wildland fire to accomplish resource management objectives for specific areas. Alternatives C through E (the Preferred Alternative) would allow wildland fire use on 97.5 percent of the Refuge—with wildland fire use only being the default management action in designated Wilderness (66.4 percent of the Refuge) under Alternative C. Under Alternatives D and E (the Preferred Alternative), wildland fire use would be the default management action in Minimal and designated Wilderness management categories (95 percent of the Refuge).

Issue 2: Manage Existing Facilities for Public Use While Ensuring Resource Protection

Presently, there are three active oil and gas leases (13,252 acres) on the Kenai Refuge that were granted under the Mineral Leasing Act of 1920. These leases are not anticipated to end during the life of this plan (15 years) but could in the foreseeable future. For two of the leases, the Swanson River and Beaver Creek Oil and Gas units, some of the existing industrial roads and operating facilities would be retained (in the event that operations cease) for public use (except bicycle use) under Alternative A, though none would be retained under Alternative B. Most industrial roads would be retained and converted to trails for pedestrian and horse use only under Alternative C; and Alternatives D and E (the Preferred Alternative) would retain and maintain most roads for public use, including bicycle use. No existing facilities would be retained for public use under Alternatives C through E (the Preferred Alternative) in these oil and gas units. In the Swanson River Oil and Gas Unit, up to five primitive camping areas would be provided for walk-in use only under Alternative C, and two developed campgrounds would be constructed under Alternatives D and E (the Preferred Alternative). In the Beaver Creek Oil and Gas Unit, up to two primitive camping areas would be provided for walk-in use only under Alternative C, one developed campground would be constructed under Alternative D, and no camping facilities would be provided under Alternative E (the Preferred Alternative).

Public vehicle use on the unimproved Mystery Creek Access Road and pipeline corridor north to Chickaloon Bay would be allowed from the start of moose hunting season (approximately August 9) until snow cover under Alternative A. Under Alternative B, the access road would be improved; and public vehicle use would be allowed July 1 to November 30 throughout the area, including southwest access to the East Fork of the Moose River. Alternatives C and E (the Preferred Alternative) would improve the access road to ensure public safety and environmental protection while providing for a primitive backcountry experience; and public vehicle use would be allowed August 9 to November 30 throughout the area, including southwest access to the East Fork of the Moose River. Under Alternative D, public vehicle use on the access road and pipeline corridor would not be allowed. Pedestrian, horse, and snowmachine use would be allowed under all the alternatives. Bicycle use would be allowed from August 9 until snow cover under Alternatives A, C, and E (the Preferred Alternative), and May 1 to November 30 under Alternative B. Alternative D would not allow bicycle use. Public use registration would not be required under Alternatives A or D, but it would be required under Alternatives B, C, and E (the Preferred Alternative).

Issue 3: Enhance Wildlife-Dependent Recreation Opportunities

Under Alternative A, personal collection of berries, mushrooms, and other edible plants, and/or the collection of shed antlers would not be allowed. Under Alternatives B through E (the Preferred Alternative), personal collection and use of unlimited quantities of berries, mushrooms, and other edible plants; and up to eight naturally shed moose or caribou antlers per person per year would be allowed.

Issue 4: Manage Increasing Public Use To Ensure Resource and Visitor-Experience Protection

For the Upper Kenai River (Russian River to Skilak Lake), non-guided public use would be allowed without restriction under Alternative A. Alternative B would modify existing management agreements and/or plans cooperatively with stakeholders to address non-guided public use; and Alternatives C through E (the Preferred Alternative) would implement a limited permit program.

Under all of the Alternatives, sportfishing guides would be required to have special use permits. Permits would be limited to 20 under Alternatives A and B, reduced to 18 under C and E (the Preferred Alternative), and reduced to 15 under Alternative D. Permits would be reduced through attrition and issued competitively. Each permit would allow 10 starts per week with no more than 4 starts per day—except under Alternative B, which would require additional restrictions on the timing and starts of boats beyond such levels.

State-licensed sportfishing guides not having Refuge special use permits may be issued Incidental Use Permits (IUPs) under all the alternatives except Alternative D, which would eliminate the IUP Program. Alternatives A, C, and E (the Preferred Alternative) would issue up to three IUPs per year subject to quotas and blackout dates; and Alternative B would limit the number of IUPs to one per year.

Dispersed camping would be allowed (except within one-quarter mile of the Sterling Highway) under all of the alternatives but would be limited to 14 days in any 30-day period under Alternative A; limited to 24 hours within any 14-day period within 100 yards of the river under Alternative B; not allowed within 100 yards of the river under Alternatives C and E (the Preferred Alternative); limited to 48 hours within any 14-day period within 100 yards of the river and within one mile of the Kenai River/Skilak Lake inlet/outlet under Alternative D.

For the Middle Kenai River (Skilak Lake downstream to the Refuge boundary), non-guided public use would be allowed without restriction under Alternatives A and B. Such use would be allowed without restriction under Alternatives C and E (the Preferred Alternative) until a Limits-of-Acceptable Change planning process is completed with stakeholders; and Alternative D would implement a limited permit program after a public rulemaking process is conducted.

Sportfishing guides would be required to have special use permits under all of the alternatives, though such permits would be issued without limit under Alternative A. Under Alternative B, the need to implement a permitting process would be evaluated after the conclusion of the ongoing Kenai River-wide guide process. Under Alternatives C and E (the Preferred Alternative), permits would be limited to the number of existing permittees, and existing permittees would be “grandfathered”; under Alternative D, permits would be limited to 20 through a competitive selection process, and management of the timing and starts of boats would be initiated.

Issue 5: Balance Motorized Access With Resource and Visitor-Experience Protection

Under all the alternatives, airplane access would not be allowed May 1 to September 30 on any lake where nesting trumpeter swans and/or their broods are present except on two lakes in designated Wilderness—where the closure would be May 1 to September 10 under Alternatives A through C and E (the Preferred Alternative)—and five lakes in designated Wilderness plus one lake outside of designated Wilderness under Alternative D. Airplane access would be allowed on 46 lakes in designated Wilderness under Alternative A and E (the Preferred Alternative); 45 lakes under Alternative B; 50 lakes under Alternative C; and 59 lakes under Alternative D.

Under all the alternatives, floatplane access to Chickaloon Flats would be allowed on 6.5 miles of the Chickaloon River. Under Alternative A, wheeled airplane access would be allowed year-round within designated areas of the Chickaloon Flats area including three upland landing zones, a designated beach zone, and the unmaintained Big Indian Creek airstrip. Under Alternatives B through E (the Preferred Alternative), wheeled airplane access would be allowed on 21 square miles of unvegetated portions of the Chickaloon Flats area. Access would also be allowed on the unmaintained Big Indian Creek airstrip under Alternatives B and E (the Preferred Alternative). Under Alternatives C and D, access would be allowed on the Big Indian Creek airstrip, which would be maintained by the Service; and under Alternative D, an additional 6.8 square miles of unvegetated portions of the Chickaloon Flats would be accessible September 1 to December 15 (or to coincide with future waterfowl hunting seasons).

Under Alternatives A through C and E (the Preferred Alternative), snowmachines would be allowed in designated areas December 1 to April 30 when the refuge manager determines there is adequate snow cover. Under Alternative C, certain zones within designated areas may be opened earlier (than December 1) or later (than April 30) depending on local snow conditions.

Under Alternative D, the December 1 to April 30 time restriction would be eliminated, and certain zones within designated areas may be opened depending on local snow conditions. Under Alternatives B through E (the Preferred Alternative), research studies would be conducted with stakeholders to evaluate the effects of snowmachine use on Refuge resources and visitor experiences, and the results of those studies would be used to support future management decisions.

Public Availability of Comments: Before including your name, address, phone number, e-mail address, or other personal identifying information in your comment, you should be aware that your entire comment—including your personal identifying information—may be made publicly available at any time. While you can ask us in your comment to withhold your personal identifying information from public review, we cannot guarantee that we will be able to do so. We will make all comments from individual persons part of the official public record. We will handle requests for such comments in accordance with the Freedom of Information Act, NEPA, and Departmental policies and procedures.

Dated: May 2, 2008.
Gary Edwards,
Acting Regional Director, U.S. Fish and Wildlife Service, Anchorage, Alaska.

[FR Doc. E8-10236 Filed 5-7-08; 8:45 am]

BILLING CODE 4310-55-P